DEPARTMENT OF HEALTH AND HUMAN SERVICES

Substance Abuse and Mental Health Services Administration (SAMHSA)

Notice of Meetings

Pursuant to Public Law 92-463, notice is hereby given of the following meetings of SAMHSA Special Emphasis Panels I in March, April and May.

A summary of the meetings and a roster of the members may be obtained from: Ms. Coral Sweeney, Review Specialist, SAMHSA, Office of Policy and Program Coordination, Division of Extramural Activities, Policy, and Review, 5600 Fishers Lane, Room 17-89, Rockville, Maryland 20857. Telephone: 301-443-2998.

Substantive program information may be obtained from the individual named as Contact for the meeting listed below.

The meetings will include the review, discussion and evaluation of individual grant applications. These discussions could reveal personal information concerning individuals associated with the applications. Accordingly, these meetings are concerned with matters exempt from mandatory disclosure in Title 5 U.S.C. 552b(c) (6) and 5 U.S.C. App.2, § 10(d).

Committee Name: SAMHSA Special Emphasis Panel I (SEP I).

Meeting Date: March 2001.

Place: SAMHSA / DEAPR, Parklawn Building, 5600 Fishers Lane, Room 17089, Rockville, Maryland 20817,

Closed: Entire Meeting.

Panel: Conference Grants PA 98-90.

Contact: Diane McMenamin, Director, Division of Extramural Activities, Policy and Review.

Committee Name: SAMHSA Special Emphasis Panel I (SEP I),

Meeting Date: March 2001.

Place: SAMHSA, DEAPR, Parklawn Building, 5600 Fishers Lane, Room 17089, Rockville, Maryland 20817.

Closed: Entire Meeting.

Panel: Community Action Grants, CSAT, Room 1789, Rockville, Maryland 20857.

Contact: Diane McMenamin, Director, Division of Extramural Activities, Policy and Review.

Committee Name: SAMHSA Special Emphasis Panel I (SEP I).

Meeting Date: April 2001.

Place: Four Points by Sheraton, 8400 Wisconsin Avenue, Bethesda, Maryland 20814.

Closed: Entire Meeting.

Panel: Community Initiated Prevention Intervention, SP 00-01.

Contact: Diane McMenamin, Director, Division of Extramural Activities, Policy and Review.

Committee Name: SAMHSA Special Emphasis Panel (SEP I).

Meeting Date: April 2001.

Place: Bethesda Marriott, 5151 Pooks Hill Road, Bethesda, Maryland 20814.

Closed: Entire Meeting.

Panel: Targeted Capacity Expansion, PA 00-01.

Contact: Diane McMenamin, Director, Division of Extramural Activities, Policy and Review.

Committee Name: SAMHSA Special Emphasis Panel I (SEP I).

Meeting Date: April/May 2001.

Place: Four Points by Sheraton, 8400 Wisconsin Avenue, Bethesda, Maryland 20814.

Closed: Entire Meeting.

Panel: Community Comprehensive Treatment Program, PA 99-080.

Contact: Diane McMenamin, Director, Division of Extramural Activities, Policy and Review.

Committee Name: SAMHSA Special Emphasis Panel (SEP I).

Meeting Date: May 2001.

Place: SAMHSA, DEAPR, Parklawn Building, 5600 Fishers Lane, Room 17089, Rockville, Maryland 20817.

Closed: Entire Meeting.

Panel: State Incentive Grant, Homeless II.

Contact: Diane McMenamin, Director, Division of Extramural Activities, Policy and Review.

Dated: February 13, 2001.
Coral Sweeney,
Review Specialist, Substance Abuse and Mental Health Services Administration.

[FR Doc. 01-5159 Filed 3-2-01; 8:45 am]

BILLING CODE 4162-20-P